DEPARTMENT OF VETERANS AFFAIRS

38 CFR Parts 3, 17, 18 and 21

RIN 2900-AR04

Vocational Rehabilitation and Employment (VR&E) Program: Name Change

AGENCY: Department of Veterans Affairs.

ACTION: Final rule.

SUMMARY: The Department of Veterans Affairs (VA) is issuing this final rule to amend the regulations pertaining to the name of the Vocational Rehabilitation and Employment program. VA provides benefits and services under the program name of “Vocational Rehabilitation and Employment.” VA is proposing to amend the name to “Veteran Readiness and Employment” (VR&E). VA further proposes that the references to the position of “Vocational Rehabilitation and Employment Officer” be amended to “Veteran Readiness and Employment Officer” and the position of “Director of Vocational Rehabilitation and Employment” be amended to “Executive Director of Veteran Readiness and Employment”.

DATES: This rule is effective February 16, 2022.

FOR FURTHER INFORMATION CONTACT: Allison Bernheimer, Policy Analyst, Veteran Readiness and Employment Services (28), 810 Vermont Avenue NW, Washington, DC 20420, allison.bernheimer@va.gov, (202) 461-9600. (This is not a toll-free telephone number.)

SUPPLEMENTARY INFORMATION: On May 20, 2021, VA published a proposed rule in the Federal Register (86 FR 27340) which would amend its regulations that contain the program name Vocational Rehabilitation and Employment, the position title of Vocational Rehabilitation and Employment Officer and the position title of the Executive Director of Vocational Rehabilitation and Employment. VA provided a 60-day comment period, which ended on July 19, 2021. We received no comments on the proposed rule. This rule adopts as a final rule, without changes, the proposed rule published in the Federal Register on May 20, 2021. Based on the rationale set forth in the notice of proposed rulemaking and in this document, VA adopts the proposed rule as a final rule.

Executive Orders 12866 and 13563

Executive Orders 12866 and 13563 direct agencies to assess the costs and benefits of available regulatory alternatives and, when regulation is necessary, to select regulatory approaches that maximize net benefits (including potential economic, environmental, public health and safety effects, and other advantages; distributive impacts; and equity). Executive Order 13563 (Improving Regulation and Regulatory Review) emphasizes the importance of quantifying both costs and benefits, reducing costs, harmonizing rules, and promoting flexibility. The Office of Information and Regulatory Affairs has determined that this rule is not a significant regulatory action under Executive Order 12866. The Regulatory Impact Analysis associated with this rulemaking can be found as a supporting document at www.regulations.gov.

Regulatory Flexibility Act

The Secretary hereby certifies that this final rule will not have a significant economic impact on a substantial number of small entities as they are defined in the Regulatory Flexibility Act (5 U.S.C. 601-612). The factual basis for this certification is based on this rulemaking does not change VA's policy regarding small businesses, does not have an economic impact to individual businesses, and there is no increased or decreased costs to small business entities. Therefore, pursuant to 5 U.S.C. 605(b), the initial and final regulatory flexibility analysis requirements of 5 U.S.C. 603 and 604 do not apply.

Unfunded Mandates

The Unfunded Mandates Reform Act of 1995 requires, at 2 U.S.C. 1532, that agencies prepare an assessment of anticipated costs and benefits before issuing any rule that may result in the expenditure by State, local, and tribal governments, in the aggregate, or by the private sector, of $100 million or more (adjusted annually for inflation) in any one year. This final rule will have no such effect on State, local, and tribal governments, or on the private sector.

Paperwork Reduction Act (PRA)

This final rule contains no provisions constituting a collection of information under the Paperwork Reduction Act of 1995 (44 U.S.C. 3501-3521).

Assistance Listing

The Assistance Listing numbers and titles for the programs affected by this document are 64.116, Vocational Rehabilitation for Disabled Veterans; 64.125, Vocational and Educational Counseling for Servicemembers and Veterans; 64.128, Vocational Training and Rehabilitation for Vietnam Veterans' Children with Spina Bifida or Other Covered Birth Defects.

Congressional Review Act

Pursuant to Subtitle E of the Small Business Regulatory Enforcement Fairness Act of 1996 (known as the Congressional Review Act) (5 U.S.C. 801 et seq.), the Office of Information and Regulatory Affairs designated this rule as not a major rule, as defined by 5 U.S.C. 804(2).

List of Subjects

38 CFR Part 3

Administrative practice and procedure, Claims, Disability benefits, Health care, Pensions, Radioactive materials, Veterans, Vietnam.

38 CFR Part 17

Administrative practice and procedure, Alcohol abuse, Alcoholism, Claims, Day care, Dental health, Drug abuse, Foreign relations, Government contracts, Grant programs—health, Grant programs—veterans, Health care, Health facilities, Health professions, Health records, Homeless, Medical and dental schools, Medical devices, Medical research, Mental health programs, Nursing homes, Philippines, Reporting and recordkeeping requirements, Scholarships and fellowships, Travel and transportation expenses, Veterans.

38 CFR Part 18

Aged, Civil Rights, Equal educational opportunity, Equal employment opportunity, Individuals with disabilities, Reporting and recordkeeping requirements, Veterans.

38 CFR Part 21

Administrative practice and procedure, Armed forces, Civil rights, Claims, Colleges and universities, Conflict of interests, Defense Department, Education, Employment, Grant programs—education, Grant programs—veterans, Health care, Loan programs—education, Loan programs—veterans, Manpower training programs, Reporting and recordkeeping requirements, Schools, Travel and transportation expenses, Veterans, Vocational education, Vocational rehabilitation.

Signing Authority

Denis McDonough, Secretary of Veterans Affairs, approved this document on January 31, 2022, and authorized the undersigned to sign and submit the document to the Office of the Federal Register for publication electronically as an official document of the Department of Veterans Affairs.

Luvenia Potts,
Regulation Development Coordinator, Office of Regulation Policy & Management, Office of General Counsel, Department of Veterans Affairs.

For the reasons stated in the preamble, the Department of Veterans Affairs amends 38 CFR parts 3, 17, 18, and 21 as follows:

PART 3—ADJUDICATION

Subpart A—Pension, Compensation, and Dependency and Indemnity Compensation

1. The authority citation for part 3, subpart A, continues to read as follows:

Authority: 38 U.S.C. 501(a), unless otherwise noted.

§ 3.341 [Amended]

2. Amend § 3.341 by removing in paragraph (c) the words “Vocational Rehabilitation and Employment” and adding in their place the words “Veteran Readiness and Employment (VR&E)”.

§ 3.342 [Amended]

3. Amend § 3.342 by removing in paragraph (c)(1) the words “Vocational Rehabilitation and Employment” and adding in their place the words “Veteran Readiness and Employment (VR&E)”.

PART 17—MEDICAL

4. The authority citation for part 17 continues to read in part as follows:

Authority: 38 U.S.C. 501, and as noted in specific sections.

* * * * *

§ 17.37 [Amended]

5. Amend § 17.37 by removing in paragraph (e) the words “vocational rehabilitation” and adding in their place the words “Veteran Readiness and Employment (VR&E)”.

PART 18—NONDISCRIMINATION IN FEDERALLY-ASSISTED PROGRAMS OF THE DEPARTMENT OF VETERANS AFFAIRS—EFFECTUATION OF TITLE VI OF THE CIVIL RIGHTS ACT OF 1964

Subpart A—General

6. The authority citation for part 18, subpart A, continues to read as follows:

Authority: Sec. 602, 78 Stat. 252 (42 U.S.C. 2000d-1) and the laws referred to in Appendix A.

Appendix A to Subpart A of Part 18 [Amended]

7. Amend appendix A to subpart A by removing in sentence number 4 the words “vocational rehabilitation” and adding in their place the words “Veteran Readiness and Employment”.

Subpart D—Nondiscrimination on the Basis of Handicap

8. The authority citation for part 18, subpart D, continues to read as follows:

Authority: 29 U.S.C. 706, 794.

Appendix A to Subpart D of Part 18 [Amended]

9. Amend appendix A to subpart D of part 18 by removing, in sentence number 10, the words “vocational rehabilitation” and adding in their place the words “Veteran Readiness and Employment”.

Subpart E—Nondiscrimination on the Basis of Age

10. The authority citation for part 18, subpart E, continues to read as follows:

Authority: Age Discrimination Act of 1975, as amended, 42 U.S.C. 6101, et seq.; 45 CFR part 90 (1979).

Appendix A to Subpart E of Part 18 [Amended]

11. Amend appendix A to subpart E of part 18 by removing, in sentence number 8, the words “Vocational Rehabilitation” and adding in their place the words “Veteran Readiness and Employment”.

12. Under the authority of 38 U.S.C. 501(a) and chs. 18 and 31, revise the heading for part 21 to read as follows:

PART 21—VETERAN READINESS AND EMPLOYMENT AND EDUCATION

Subpart A—Veteran Readiness and Employment

13. The authority citation for part 21, subpart A, continues to read as follows:

Authority: 38 U.S.C. 501(a), chs. 18, 31, and as noted in specific sections.

14. Revise the heading for subpart A to read as set forth above.

15. Revise the undesignated heading immediately before § 21.1 to read as follows:

Veteran Readiness and Employment Overview

§ 21.35 [Amended]

16. Amend § 21.35 by:

a. Removing in paragraph (k)(1), the words “Vocational Rehabilitation and Employment” and adding in their place the words “Veteran Readiness and Employment (VR&E)”.

b. Removing in paragraphs (k)(2) and (7), the words “Vocational Rehabilitation and Employment” and adding in their place the word “VR&E”.

§ 21.42 [Amended]

17. Amend § 21.42 by:

a. Removing in paragraph (c)(1) the words “vocational rehabilitation” and adding in their place the words “Veteran Readiness and Employment (VR&E)”.

b. Removing in paragraph (c)(2)(ii) the words “vocational rehabilitation and employment” and adding in their place the word “VR&E”.

c. Removing in paragraph (c)(6) the words “vocational rehabilitation” and adding in their place the word “VR&E”

§ 21.53 [Amended]

18. Amend § 21.53 by:

a. Removing in paragraph (f) the words “Vocational Rehabilitation and Employment (VR&E) Officer” and adding in their place the words “Veteran Readiness and Employment (VR&E) Officer”.

b. Removing in paragraph (g) introductory text the words “Vocational Rehabilitation and Employment” and adding in their place the word “VR&E”.

§ 21.57 [Amended]

19. Amend § 21.57 by removing in paragraph (d) the words “Vocational Rehabilitation and Employment” and adding in their place the words “Veteran Readiness and Employment (VR&E)”.

§ 21.60 [Amended]

20. Amend § 21.60 by:

a. Removing in paragraph (b)(1) the words “VR&E (Vocational Rehabilitation and Employment)” and adding in their place the words “Veteran Readiness and Employment (VR&E)”.

b. Removing in paragraph (c)(1) the words “VR&E (Vocational Rehabilitation and Employment)” and adding in their place the word “VR&E”.

§ 21.62 [Amended]

21. Amend § 21.62 by removing in paragraph (a) introductory text the words “Vocational Rehabilitation and Employment (VR&E)” and adding in their place the words “Veteran Readiness and Employment (VR&E)”.

§ 21.72 [Amended]

22. Amend § 21.72 by removing in paragraph (c)(1) the words “Vocational Rehabilitation and Employment Officer” and adding in their place the words “Veteran Readiness and Employment (VR&E) Officer”.

§ 21.74 [Amended]

23. Amend § 21.74 by removing in paragraph (c)(2) the words “Vocational Rehabilitation and Employment (VR&E) Officer” and adding in their place the words “Veteran Readiness and Employment (VR&E) Officer”.

§ 21.78 [Amended]

24. Amend § 21.78 by removing in paragraph (d) the words “Vocational Rehabilitation and Employment Officer” and adding in their place the words “Veteran Readiness and Employment (VR&E) Officer”.

§ 21.80 [Amended]

25. Amend § 21.80 by removing in paragraph (a)(1) the word “VR&E” and adding in its place the words “Veteran Readiness and Employment (VR&E)”.

§ 21.100 [Amended]

26. Amend § 21.100 by:

a. Removing in paragraph (a) introductory text the words “Vocational Rehabilitation and Employment (VR&E)” and adding in their place the words “Veteran Readiness and Employment (VR&E)”.

b. Removing in paragraph (d)(1) the words “Vocational Rehabilitation and Employment (VR&E)” and adding in their place the word “VR&E”.

§ 21.155 [Amended]

27. Amend § 21.155 by removing in paragraph (c) introductory text the word “VR&E” and adding in its place the words “Veteran Readiness and Employment (VR&E)”.

§ 21.162 [Amended]

28. Amend § 21.162 by removing in paragraph (a)(4) the words “VR&E Officer” and adding in their place the words “Veteran Readiness and Employment (VR&E) Officer”.

§ 21.180 [Amended]

29. Amend § 21.180 by:

a. Removing in paragraph (a)(1) the word “VR&E” and adding in its place the words “Veteran Readiness and Employment (VR&E)”.

b. In paragraph (c) the words “VR&E (Vocational Rehabilitation and Employment) Officer” and adding in their place the words “VR&E Officer”.

§ 21.182 [Amended]

30. Amend § 21.182 by removing in paragraph (b)(2) introductory text the words “VR&E (Vocational Rehabilitation and Employment)” and adding in their place the words “Veteran Readiness and Employment (VR&E)”.

§ 21.184 [Amended]

31. Amend § 21.184 by removing in paragraph (c)(2) introductory text the word “VR&E” and adding in its place the words “Veteran Readiness and Employment (VR&E)”.

§ 21.198 [Amended]

32. Amend § 21.198 by removing in paragraph (b)(7) the words “Vocational Rehabilitation and Employment (VR&E) Officer” and adding in their place the words “Veteran Readiness and Employment (VR&E) Officer”.

§ 21.222 [Amended]

33. Amend § 21.222 by removing in paragraph (c)(3) the words “Director, VR&E Service” and adding in their place the words “Executive Director, Veteran Readiness and Employment (VR&E) Service”.

§ 21.256 [Amended]

34. Amend § 21.256 by removing in paragraph (d) the words “VR&E Officer” and adding in their place the words “Veteran Readiness and Employment (VR&E) Officer”.

§ 21.258 [Amended]

35. Amend § 21.258 by:

a. Removing the words “VR&E Officer” and adding in their place the words “Veteran Readiness and Employment (VR&E) Officer”.

b. Removing the words “Director, VR&E Service” and adding in their place the words “Executive Director, VR&E Service”.

§ 21.274 [Amended]

36. Amend § 21.274 by removing in paragraph (e)(1) introductory text the word “VR&E” and adding in its place the words “Veteran Readiness and Employment (VR&E)”.

§ 21.292 [Amended]

37. Amend § 21.292 by removing in paragraph (d) the word “VR&E” and adding in its place the words “Veteran Readiness and Employment (VR&E)”.

§ 21.299 [Amended]

38. Amend § 21.299 by removing in paragraph (d)(1) introductory text the word “VR&E” and adding in its place the words “Veteran Readiness and Employment (VR&E)”.

§ 21.362 [Amended]

39. Amend § 21.362 by removing in paragraph (b)(2) the word “VR&E” and adding in its place the words “Veteran Readiness and Employment (VR&E)”.

§ 21.382 [Amended]

40. Amend § 21.382 by removing in paragraph (a) introductory text the word “VR&E” and adding in its place the words “Veteran Readiness and Employment (VR&E)”.

§ 21.390 [Amended]

41. Amend § 21.390 by removing in paragraph (c) heading the words “Vocational Rehabilitation and Employment (VR&E)” and adding in their place the words “Veteran Readiness and Employment (VR&E)”.

§ 21.410 [Amended]

42. Amend § 21.410 by removing the words “Vocational Rehabilitation and Employment” and adding in their place the words “Veteran Readiness and Employment (VR&E)”.

§ 21.430 [Amended]

43. Amend § 21.430 in paragraph (c) by:

a. In the heading, removing the words “Vocational Rehabilitation and Employment (VR&E) Officer's” and adding in their place the words “Veteran Readiness and Employment (VR&E) Officer's”.

b. In the introductory text, removing “(c)(1) through (c)(3)” and adding “(c)(1) through (3)” in its place.

Subpart C—Survivors' and Dependents' Educational Assistance Under 38 U.S.C. Chapter 35

44. The authority citation for subpart C continues to read as follows:

Authority: 38 U.S.C. 501(a), 512, 3500-3566, and as noted in specific sections.

§ 21.3022 [Amended]

45. Amend § 21.3022 by removing in paragraph (b) the words “Vocational Rehabilitation and Employment” and adding in their place the words “Veteran Readiness and Employment (VR&E)”.

§ 21.3104 [Amended]

46. Amend § 21.3104 by:

a. Removing in paragraph (a) the words “Vocational Rehabilitation and Employment” and adding in their place the words “Veteran Readiness and Employment (VR&E)”.

b. Removing in paragraph (b) the words “Vocational Rehabilitation and Employment” and adding in their place the word “VR&E”.

§ 21.3303 [Amended]

47. Amend § 21.3303 in paragraph (a) by:

a. Removing in the first sentence the words “Director, Vocational Rehabilitation and Employment Service” and adding in their place the words “Executive Director, Veteran Readiness and Employment (VR&E) Service”.

b. Removing in the second sentence the words “Director, Vocational Rehabilitation and Employment Service” and adding in their place the words “Executive Director, VR&E Service”.

§ 21.3307 [Amended]

48. Amend § 21.3307 by removing in paragraph (c) the words “Vocational Rehabilitation and Employment” and adding in their place the words “Veteran Readiness and Employment (VR&E)”.

§ 21.3344 [Amended]

49. Amend § 21.3344 by removing in paragraph (e)(1)(i) the words “Vocational Rehabilitation and Employment” and adding in their place the words “Veteran Readiness and Employment (VR&E)”.

Subpart D—Administration of Educational Assistance Programs

50. The authority citation for subpart D continues to read as follows:

Authority: 10 U.S.C. 2141 note, ch. 1606; 38 U.S.C. 501(a), chs. 30, 32, 33, 34, 35, 36, and as noted in specific sections.

§ 21.4001 [Amended]

51. Amend § 21.4001 by removing in paragraph (g) the words “Director, Vocational Rehabilitation and Employment Service” and adding in their place the words “Executive Director, Veteran Readiness and Employment (VR&E) Service”.

§ 21.4022 [Amended]

52. Amend § 21.4022 by removing in paragraph (b) the words “Vocational Rehabilitation and Employment Program” and adding in their place the words “Veteran Readiness and Employment (VR&E)”.

§ 21.4232 [Amended]

53. Amend § 21.4232 by removing in paragraph (d) the words “Director, Vocational Rehabilitation and Employment Service” and adding in their place the words “Executive Director, Veteran Readiness and Employment (VR&E) Service”.

§ 21.4250 [Amended]

54. Amend § 21.4250 by removing in paragraph (c)(1) the words “Director, Vocational Rehabilitation and Employment Service” and adding in their place the words “Executive Director, Veteran Readiness and Employment (VR&E) Service”.

Subpart G—Post-Vietnam Era Veterans' Educational Assistance Under 38 U.S.C. Chapter 32

55. The authority citation for subpart G continues to read as follows:

Authority: 38 U.S.C. 501(a), chs. 32, 36, and as noted in specific sections.

§ 21.5022 [Amended]

56. Amend § 21.5022 by removing in paragraph (a)(1)(ii) the words “Vocational Rehabilitation and Employment” and adding in their place the words “Veteran Readiness and Employment (VR&E)”.

Subpart I—Temporary Program of Vocational Training for Certain New Pension Recipients

57. The authority citation for subpart I continues to read as follows:

Authority: Pub. L. 98-543, 38 U.S.C. 501 and chapter 15, sections specifically cited, unless otherwise noted.

§ 21.6050 [Amended]

58. Amend § 21.6050 by removing in paragraph (e) the words “Vocational Rehabilitation and Employment (VR&E)” and adding in their place the words “Veteran Readiness and Employment (VR&E)”.

§ 21.6052 [Amended]

59. Amend § 21.6052 by removing in paragraph (c) the words “Vocational Rehabilitation and Employment” and adding in their place the words “Veteran Readiness and Employment (VR&E)”.

§ 21.6054 [Amended]

60. Amend § 21.6054 by removing in paragraph (b) the words “Vocational Rehabilitation and Employment” and adding in their place the words “Veteran Readiness and Employment (VR&E)”.

§ 21.6100 [Amended]

61. Amend § 21.6100 by:

a. Removing “General.”.

b. Removing the words “Vocational Rehabilitation and Employment (VR&E)” and adding in their place the words “Veteran Readiness and Employment (VR&E)”.

§ 21.6410 [Amended]

62. Amend § 21.6410 by removing in paragraph (a) the words “Vocational Rehabilitation and Employment” and adding in their place the words “Veteran Readiness and Employment (VR&E)”.

Subpart J—Temporary Program of Vocational Training and Rehabilitation

63. The authority citation for subpart J continues to read as follows:

Authority: Pub. L. 98-543, sec. 111; 38 U.S.C. 1163; Pub. L. 100-687, sec. 1301, unless otherwise noted.

§ 21.6509 [Amended]

64. Amend § 21.6509 by removing in paragraph (d) the words “Vocational Rehabilitation and Employment (VR&E)” and adding in their place the words “Veteran Readiness and Employment (VR&E)”.

Subpart K—All Volunteer Force Educational Assistance Program (Montgomery GI Bill—Active Duty)

65. The authority citations for subpart K continues to read as follows:

Authority: 38 U.S.C. 501(a), chs. 30, 36, and as noted in specific sections.

§ 21.7143 [Amended]

66. Amend § 21.7143 by removing in paragraph (a)(1)(i) the words “Vocational Rehabilitation and Employment” and adding in their place the words “Veteran Readiness and Employment (VR&E)”.

Subpart L—Educational Assistance for Members of the Selected Reserve

67. The authority citation for subpart L continues to read as follows:

Authority: 10 U.S.C. ch. 1606; 38 U.S.C. 501(a), 512, ch. 36, and as noted in specific sections.

§ 21.7642 [Amended]

68. Amend § 21.7642 by removing in paragraph (a)(2) the words “Vocational Rehabilitation and Employment” and adding in their place the words “Veteran Readiness and Employment (VR&E)”.

Subpart M—Vocational Training and Rehabilitation for Certain Children of Vietnam Veterans and Veterans with Covered Service in Korea—Spina Bifida and Covered Birth Defects

69. The authority citation for subpart M continues to read as follows:

Authority: 38 U.S.C. 101, 501, 512, 1151 note, ch. 18, 5112, and as noted in specific sections.

§ 21.8010 [Amended]

70. Amend § 21.8010 by removing in paragraph (a), in the definition for “VR&E”, the words “Vocational Rehabilitation and Employment” and adding in their place the words “Veteran Readiness and Employment”.

Subpart P—Post-9/11 GI Bill

71. The authority citation for subpart P continues to read as follows:

Authority: 38 U.S.C. 501(a), 512, chs. 33, 36 and as noted in specific sections.

§ 21.9690 [Amended]

72. Amend § 21.9690 by removing in paragraph (a)(5) the words “Vocational Rehabilitation and Employment Program” and adding in their place the words “Veteran Readiness and Employment (VR&E)”.

[FR Doc. 2022-02492 Filed 2-15-22; 8:45 am]

BILLING CODE 8320-01-P